DEPARTMENT OF LABOR

Employment and Training Administration

[TA-W-82,998]

Innovative Dental, Inc., Reno, Nevada; Notice of Negative Determination Regarding Application for Reconsideration

By application dated September 27, 2013, a separated worker requested administrative reconsideration of the Department of Labor's negative determination regarding eligibility to apply for Trade Adjustment Assistance (TAA), applicable to workers and former workers of the subject firm (issued September 12, 2013). The Department's Notice of determination was published in the Federal Register on October 3, 2013 (78 FR 61394).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The negative determination of the Trade Adjustment Assistance (TAA) petition filed on behalf of workers at Innovative Dental, Inc., Reno, Nevada was based on the Department's findings that a significant number or proportion of workers at the subject firm has not been totally or partially separated, or threatened with such separation. In a worker group of fewer than fifty workers, a significant number or proportion of workers is three workers. 29 CFR 90.2

The request for reconsideration stated that “over 60% of the dental laboratory restorations in this country are manufactured overseas . . . or across our Southern border” and did not provide any information regarding the number or proportion of workers separated at the subject firm. The request for reconsideration did not include any supporting documents. The Department contacted the worker for information regarding the number or proportion of workers separated from the subject firm, but did not receive any additional information.

The petitioner did not supply facts not previously considered; nor provide additional documentation indicating that there was either (1) a mistake in the determination of facts not previously considered or (2) a misinterpretation of facts or of the law justifying reconsideration of the initial determination. Based on these findings, the Department determines that 29 CFR 90.18(c) has not been met.

Conclusion

After careful review of the application and investigative findings, I conclude that there has been no error or misinterpretation of the law or of the facts which would justify reconsideration of the Department of Labor's prior decision. Accordingly, the application is denied.

Signed in Washington, DC, this 13th day of March, 2014.
Del Min Amy Chen,
Certifying Officer, Office of Trade Adjustment Assistance.

[FR Doc. 2014-06679 Filed 3-25-14; 8:45 am]

BILLING CODE 4510-FN-P